DEPARTMENT OF COMMERCE

National Oceanic and Atmospheric Administration

RIN 0648-XE736

Pacific Fishery Management Council; Public Meeting

AGENCY: National Marine Fisheries Service (NMFS), National Oceanic and Atmospheric Administration (NOAA), Commerce.

ACTION: Notice; public meeting.

SUMMARY: The Pacific Fishery Management Council's (Council) Highly Migratory Species Management Team (HMSMT) will hold a meeting, which is open to the public.

DATES: The HMSMT will meet Monday, August 8 through Thursday, August 11, 2016. The meeting will begin at 1:30 p.m. on August 8 and at 8:30 a.m. on August 9-11. On each day the meeting will end at 5 p.m. or when business for the day is concluded.

ADDRESSES:

Meeting address: The meeting will be held in the Large Conference Room at the Pacific Fishery Management Council's office.

Council address: Pacific Council, 7700 NE Ambassador Place, Suite 101, Portland, Oregon 97220-1384.

FOR FURTHER INFORMATION CONTACT: Dr. Kit Dahl, Pacific Council; telephone: (503) 820-2422.

SUPPLEMENTARY INFORMATION: The Council assigned several tasks to the HMSMT for completion by the September 2016 Council meeting. At this meeting, the HMSMT plans to draft reports for these tasks that can be included in the advanced briefing materials for the September Council meeting. These tasks include: (1) An update on international HMS management, including outcomes of the 80th Inter-American Tropical Tuna Commission meeting; (2) If available, reviewing exempted fishing permit (EFP) applications; (3) Developing recommendations for updates to the Fishery Management Plan for U.S. West Coast Fisheries for Highly Migratory Species (HMS FMP) to correct errors, revise out of date descriptions, and clarify descriptive passages; (4) Drafting a framework for reporting estimates of reference points for HMS FMP management unit species; (5) Developing recommendations responding to the referral to the Council by National Marine Fisheries Service of requests for rulemaking contained in the agency's response to the Center for Biological Diversity's petition for rulemaking to address the relative impacts of the U.S. fleet on the Pacific bluefin tuna stock (81 FR 39213); (6) Identifying data gaps and research needs for deep-set buoy gear (DSBG) to inform future Council recommendations on issuance of EFPs to test this gear for the objectives of developing a Federal fishing permit system for DSBG and regulatory authorizing use of the gear; (7) Identifying incentives for EFPs to test DSBG; (8) Developing a range of alternatives for a Federal permit for the California large mesh driftnet fishery for swordfish and sharks; and (9) Making recommendations on indicators to be included in the Annual State of the California Current Ecosystem Report delivered to the Council each March. The HMSMT may also discuss other matters related to HMS management besides the assignments enumerated above.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2280 at least 5 days prior to the meeting date.

Dated: July 19, 2016.
Tracey L. Thompson,
Acting Deputy Director, Office of Sustainable Fisheries, National Marine Fisheries Service.

[FR Doc. 2016-17378 Filed 7-21-16; 8:45 am]

BILLING CODE 3510-22-P